DEPARTMENT OF HOMELAND SECURITY

Federal Emergency Management Agency

Radiological Emergency Preparedness: Reasonable Assurance Finding for the Indian Point Energy Center

AGENCY: Federal Emergency Management Agency (FEMA), Emergency Preparedness and Response Directorate, Department of Homeland Security.

ACTION: Notice.

SUMMARY: On July 25, 2003, FEMA made a finding of reasonable assurance that there is adequate offsite preparedness for the Indian Point Energy Center in Buchanan, New York.

FOR FURTHER INFORMATION CONTACT: Vanessa E. Quinn, Chief, Radiological Emergency Preparedness Section, Nuclear and Chemical Hazards Branch, FEMA, 500 C Street, SW., Washington, DC 20472; (202) 646-3664; Vanessa.quinn@dhs.gov.

SUPPLEMENTARY INFORMATION: On July 25, 2003, FEMA made a finding of reasonable assurance that appropriate measures to protect the health and safety of communities surrounding the Indian Point Energy Center can be taken and are capable of being implemented. A link to the full text of the document transmitting the finding to George Pataki, Governor of New York, is available at http://www.fema.gov.

Dated: September 29, 2003.
R. David Paulison,
Director of the Preparedness Division, Emergency Preparedness and Response, Department of Homeland Security.

[FR Doc. 03-25216 Filed 10-3-03; 8:45 am]

BILLING CODE 6718-06-P